DEPARTMENT OF AGRICULTURE

Natural Resources Conservation Service

Red Bayou Watershed Project; Caddo Parish, LA

AGENCY: Natural Resources Conservation Service, USDA.

ACTION: Notice of finding of no significant impact.

SUMMARY: Pursuant to Section 102 (2) (C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for the Red Bayou Watershed Project, Caddo Parish, Louisiana.

FOR FURTHER INFORMATION CONTACT: Donald W. Gohmert, State Conservationist, Natural Resources Conservation Service, 3737 Government Street, Alexandria, Louisiana 71302; telephone (318) 473-7751.

SUPPLEMENTARY INFORMATION: The environmental assessment of this federally assisted action indicates that the project will not cause significant local, regional, or national impacts on the environment. As a result of these findings Donald W. Gohmert, State Conservationist, has determined that the preparation and review of an environmental impact statement are not needed for this project.

The purpose of the project is agricultural irrigation water management. The proposed plan consists of a pump station and pipeline that will allow transfer of water from the Red River to Red Bayou thus providing a dependable source of irrigation water to farmers in the project area. Associated land treatment measures will increase the efficiency of existing irrigation systems, reduce erosion and sedimentation rates, improve water quality and provide incidental opportunities to improve wildlife and fisheries habitat.

The Notice of Finding of No Significant Impact (FONSI) has been forwarded to the Environmental Protection Agency and to various Federal, state, and local agencies and interested parties. A limited number of copies of the FONSI are available to fill single copy requests at the above address. Basic data collected during the environmental assessment are on file and may be reviewed by contacting Donald W. Gohmert.

No administrative action on implementation of the proposal will be taken until 30 days after the date of this publication in the Federal Register.

Donald W. Gohmert,
State Conservationist.

[FR Doc. E6-11350 Filed 7-17-06; 8:45 am]

BILLING CODE 3410-16-P